ENVIRONMENTAL PROTECTION AGENCY

[OPP-34203K; FRL-6811-4]

Chlorpyrifos; Receipt of Requests for End-Use Product Cancellations

AGENCY: Environmental Protection Agency (EPA).

ACTION: Notice.

SUMMARY: Companies that hold the pesticide registrations of end-use pesticide products containing chlorpyrifos [O,O-diethyl O-(3,5,6-trichloro-2-pyridinyl)phosphorothioate] have asked EPA to cancel their registrations. Pursuant to section 6(f)(1) of the Federal Insecticide, Fungicide, and Rodenticide Act (FIFRA), EPA is announcing the Agency's receipt of these requests from the registrants. These requests for voluntary cancellation are the result of a Memorandum of Agreement signed by EPA and the basic manufacturers of the active ingredient chlorpyrifos on June 7, 2000. Registrants identified in this notice requesting voluntary cancellation are in large part the customer of these basic manufacturers. Given the potential risks, both dietary and non-dietary, that chlorpyrifos use poses, to children, EPA intends to grant the requested cancellations. EPA also plans to issue a cancellation order for the canceled registrations at the close of the comment period for this announcement. Upon the issuance of the cancellation order, any distribution, sale, or use of these chlorpyrifos products will only be permitted if such distribution, sale, or use is consistent with the terms of that order.

DATES: Comments, identified by docket control number OPP-34203K, must be received on or before January 4, 2002. Comments on the requested registration cancellations must be submitted to the address provided below and identified by docket control number OPP-34203K.

ADDRESSES: Comments may be submitted by mail, electronically, or in person. Please follow the detailed instructions for each method as provided in Unit I. of the SUPPLEMENTARY INFORMATION. To ensure proper receipt by EPA, it is imperative that you identify docket control number OPP-34203K in the subject line on the first page of your response.

FOR FURTHER INFORMATION CONTACT: Tom Myers, Special Review and Reregistration Division (7508C), Office of Pesticide Programs, Environmental Protection Agency, 1200 Pennsylvania Ave., NW., Washington, DC 20460, telephone number: 703-308-8589; fax number: 703-308-8041; e-mail address: myers.tom@epa.gov.

SUPPLEMENTARY INFORMATION:

I. General Information

A. Does this Action Apply to Me?

This action is directed to the public in general. You may be potentially affected by this action if you manufacture, sell, distribute, or use chlorpyrifos products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register--Environmental Documents.” You can also go directly to the Federal Register listings at http://www.epa.gov/fedrgstr/. To access information about the risk assessment for chlorpyrifos, go to the Home Page for the Office of Pesticide Programs or go directly http://www.epa.gov/pesticides/op/chlorpyrifos.htm.

2. In person. The Agency has established an official record for this action under docket control number OPP-34203K. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-34203K in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34203K. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel Registrations

A. Background

In a memorandum of agreement (“Agreement”) effective June 7, 2000, EPA and the basic manufacturers of the active ingredient chlorpyrifos agreed to several voluntary measures that will reduce the potential exposure to children associated with chlorpyrifos containing products. EPA initiated the negotiations with registrants after finding chlorpyrifos, as currently registered, was an exposure risk especially to children. As a result of the Agreement, registrants that hold the pesticide registrations of end-use products containing chlorpyrifos (who are in large part the customer of these basic manufacturers) have asked EPA to cancel their registrations for these products. Pursuant to section 6(f)(1) of the Federal Insecticide, Fungicide, and Rodenticide Act (FIFRA), EPA is announcing the Agency's receipt of these cancellation requests from the registrants.

In the Federal Register of September 20, 2000 (65 FR 56886) (FRL-6743-7), EPA published a notice of the Agency's receipt of amendments and cancellations for manufacturing use products and associated end-use products for signatories of the Memorandum of Agreement signed on June 7, 2000, and subsequent ancillary agreements. These requests were submitted as a result of the Memorandum of Agreement that was signed on June 7, 2000, between EPA and the basic manufacturers of chlorpyrifos. A copy of the Memorandum of Agreement that was signed on June 7, 2000, is located in OPP docket control number 34203D.

B. Requests for Voluntary Cancellation of End-Use Products

Pursuant to the Agreement and FIFRA section 6(f)(1)(A), several registrants have submitted requests for voluntary cancellation of registrations for their end-use products. The registrations for which cancellations were requested are identified in the following Table.

Table — End-Use Product Registration Cancellation Requests
Company | Reg. No. | Product
Dragon Chemical Corporation | 16-101 | Dursban 1/2 Granular Insecticide
| 16-123 | Dragon Home Pest Control
| 16-139 | Dragon Home Pest Killer
| 16-146 | Dragon Termite and Soil Insect Killer
| 16-163 | Dragon Crawling Insect Killer
| 16-172 | Dragon Dursban 1%% Granular Insecticide
The Scotts Company | 239-2423 | Ortho Lawn Insect Spray
| 239-2490 | Ortho Home Pest Insect Control
| 239-2513 | Ortho-Klor Soil Insect and Termite Killer
| 239-2517 | Ortho-Klor Indoor & Outdoor Insect Killer
| 239-2520 | Ortho Mole Cricket Bait Formula II
| 239-2521 | Ortho Mole Cricket Bait Formula III
| 239-2570 | Ortho-Klor 1%% Dursban Lawn & Soil Granules
| 239-2633 | Ortho Dursban Lawn Insect Formula II
| 239-2635 | Ortho Multipurpose Borer & Insect Spray
Amvac Chemical Corporation | 5481-68 | Alco Chlorpyrifos 1E Emulsifiable Insecticide
| 5481-121 | Chlorpyrifos Granules 1
| 5481-216 | Dursban-DDVP 2.50 Pest Control
| 5481-217 | Dursban-DDVP 1.25
| 5481-221 | Dursban 2E Insecticide
| 5481-222 | Bilco Dursban 4E Insecticide
| 5481-240 | Alco Bug Spray Flea, Ant and Roach Killer
Contact Industries, a Division of Safeguard Chemical Corporation | 10806-52 | Contact Roach & Ant Killer II
| 10806-99 | Contact Ant and Roach Killer IV
| 10806-100 | Contact Ant and Roach Killer XV
| 10806-101 | Contact Liquid Ant & Roach Killer V
| 10806-102 | Contact Roach and Ant Killer XVI
Amrep, Incorporated | 10807-116 | Misty Ant, Roach, & Spider Residual Insecticide with Dursban
| 10807-187 | Misty Aqueous Residual Spray
Drexel Chemical Company | 19713-229 | Drexel Chlorpyrifos 0.5G
| 19713-341 | Leisur and Lawn Insect Control

Under section 6(f)(1)(A) of FIFRA, registrants may request at any time, that EPA cancel any of their pesticide registrations. Section 6(f)(1)(B) of FIFRA requires that EPA provide a 30-day period in which the public may comment before the Agency may act on the request for voluntary cancellation. Given the potential risks, both dietary and non-dietary, that chlorpyrifos use poses, to children, EPA intends to grant the requested cancellations at the close of the comment period for this announcement.

III. Proposed Existing Stocks Provisions

The registrants have requested voluntary cancellation of the chlorpyrifos registrations identified in the Table. Pursuant to section 6(f) of FIFRA, EPA intends to grant the requests for voluntary cancellations. For purposes of the cancellation order that the Agency intends to issue at the close of the comment period for this announcement, the term “existing stocks” will be defined pursuant to EPA's existing stocks policy at June 26, 1991 (56 FR 29362) (FRL-3846-4) as those stocks of a registered pesticide product, which are currently in the United States and which have been packaged, labeled, and released for shipment prior to the effective date of the cancellation. Any distribution, sale, or use of existing stocks after the effective date of the cancellation order that the Agency intends to issue that is not consistent with the terms of that order will be considered a violation of section 12(a)(2)(K) and/or 12(a)(1)(A) of FIFRA.

1. Distribution or sale by registrants—i. Restricted use and package size limitations. Except for the purposes of returns for relabeling consistent with the June 7, 2000, Memorandum of Agreement, shipping for export consistent with the requirements of section 17 of FIFRA, or proper disposal:

(a) The distribution or sale by registrants of existing stocks of any EC formulation product listed in the Table will not be lawful under FIFRA, as of the date of publication of the cancellation order in the Federal Register, unless the product is labeled as restricted use.

(b) The distribution or sale by registrants of existing stocks of any product listed in the Table (other than containerized baits in child resistant packaging (CRP)) that is not an EC, will not be lawful under FIFRA as of the date of the cancellation notice, unless the product is either labeled for restricted use or packaged in containers no smaller than 15 gallons of a liquid formulation or 25 pounds of a dry formulation.

ii. Prohibited uses. Except for the purposes of returns for relabeling consistent with the June 7, 2000 Memorandum of Agreement, shipping for export consistent with the requirements of section 17 of FIFRA, or proper disposal, the distribution or sale of existing stocks by registrants of any product identified in the Table that bears instructions for any of the following uses will not be lawful under FIFRA as of the date of publication of the cancellation order in the Federal Register:

(a) Termite control, unless the product bears directions for use of a maximum 0.5% active ingredient (a.i.) chlorpyrifos end-use dilution.

(b) Post-construction termite control, except for spot and local termite treatment, provided the label of the product states that the product may not be used for spot and local treatment after December 31, 2002.

(c) Indoor residential except for containerized baits in CRP.

(d) Indoor non-residential except for containerized baits in CRP and products with formulations other than EC that bear labeling solely for one or more of the following uses: Warehouses, ship holds, railroad boxcars, industrial plants, manufacturing plants, food processing plants, or processed wood products treated during the manufacturing process at the manufacturing site or at the mill.

(e) Outdoor residential except for products bearing labeling solely for one or more of the following public health uses: Individual fire ant mound treatment by licensed applicators or mosquito control by public health Agencies.

(f) Outdoor non-residential, non-agricultural except for products that bear labeling solely for one or more of the following uses: Golf courses, road medians, and industrial plant sites, provided the maximum label application rate does not exceed 1 lb a.i./per acre; mosquito control for public health purposes by public health Agencies; individual fire ant mound treatment for public health purposes by licensed applicators; and fence posts, utility poles, railroad ties, landscape timbers, logs, pallets, wooden containers, poles, posts, processed wood products, manhole covers, and underground utility cable and conduits.

2. Retail and other distribution or sale. The retail sale of existing stocks of products listed in the Table bearing instructions for the prohibited uses set forth above in Units III.1.(ii) (a)-(f) of this document will not be lawful under FIFRA after December 31, 2001. Except as otherwise provided in this order, any other distribution or sale (for example, return to the manufacturer for relabeling) is permitted until stocks are exhausted.

3. Final distribution, sale and use date for pre-construction termite control. The distribution, sale or use of any product listed in the Table bearing instructions for pre-construction termiticide use will not be lawful under FIFRA after December 31, 2005, unless prior to that date, EPA has issued a written determination that such use may continue consistent with the requirements of FIFRA.

4. Use of existing stocks. Except for products bearing those uses identified above in Unit III.3. of this document, EPA intends to permit the use of existing stocks of products listed in the Table until such stocks are exhausted, provided such use is in accordance with the existing labeling of that product.

List of Subjects

Environmental protection, Memorandum of Agreement, Pesticides and pests.

Dated: November 20, 2001.
Jack E. Housenger,
Acting Director, Special Review and Reregistration Division, Office of Pesticide Programs.

[FR Doc. 01-29779 Filed 12-4-01; 8:45 am]

BILLING CODE 6560-50-S